ENVIRONMENTAL PROTECTION AGENCY

[FRL-7100-3]

EPA Science Advisory Board; Notification of Public Advisory Committee Meeting

Action—Notification of a meeting to conduct an EPA Science Advisory Board (SAB) review of elements associated with EPA's proposed rules on the: (1) Stage 2 Disinfectants and Disinfection Byproducts Rule (S2DBPR) and (2) the Long Term 2 Enhanced Surface Water Treatment Rule (LT2ESWTR).

Drinking Water Committee Meeting

Pursuant to the Federal Advisory Committee Act, Public Law 92-463, notice is hereby given that the Drinking Water Committee of the EPA Science Advisory Board (SAB) will meet from December 10 through 12, 2001. The meeting will be held at the Embassy Suites LAX Hotel, 9801 Airport Blvd., Los Angeles, CA 90045, telephone: (310) 215-1000. All times noted are Pacific Standard Time. The meeting is open to the public; however, seating is limited and available on a first come basis. Important Notice: Documents that are the subject of SAB reviews are normally available from the originating EPA office and are not available from the SAB Office—information concerning availability of documents from the relevant Program Office is included below.

Background Information—The U.S. Environmental Protection Agency (EPA) Science Advisory Board (SAB) initiated two reviews for the EPA Office of Water (OW) in a planning meeting that took place on September 25 and 26, 2001. As noted in the meeting announcement (July 27, 2001, 66 FR 39163) this September meeting was originally intended as a two-day face-to-face meeting to start the deliberative phase of the review. However, because of circumstances surrounding the September 11, 2001 national tragedies, this meetings were conducted in abbreviated form by telephone conference to plan for and to schedule the detailed review (see the minutes of this meeting on the EPA SAB Website at www.epa.gov/sab/dwc92501m.pdf).

In the discussion below, we provide information on the charge that has been given to the SAB and a summary of the background for each proposal.

1. Long Term 2 Enhanced Surface Water Treatment Rule

(a) General Information: The Safe Drinking Water Act requires EPA to develop National Primary Drinking Water Regulations for contaminants which have an adverse effect on the health of persons and where regulation provides a meaningful opportunity for public health protection. EPA is developing a Long Term 2 Enhanced Surface Water Treatment Rule to provide for increased protection of public water systems against microbial pathogens, with a specific focus on Cryptosporidium. The intent of the proposed LT2ESWTR is to supplement existing surface water treatment rules through establishment of targeted treatment requirements for systems with greater vulnerability to Cryptosporidium. Such systems include those with high source water pathogen levels and those that do not provide filtration. In addition, consistent with SDWA requirements for risk balancing, EPA will propose and finalize the LT2ESWTR simultaneously with the Stage 2 Disinfectants and Disinfection Byproducts Rule. This coordinated approach is designed to ensure that systems maintain adequate microbial protection while reducing risk from disinfection byproducts. A Federal Stakeholder Advisory Committee reached an Agreement in Principle during September 2000 with recommendations for both rules (65 FR 83015-83024).

(b) Charge—Long Term 2 Enhanced Surface Water Treatment Rule: EPA requested the SAB to comment on the following parts of the Agency's LT2ESWTR proposal and supporting documents: (1) The analysis of Cryptosporidium occurrence; (2) the pre- and post-LT2ESWTR Cryptosporidium risk assessment; and (3) the treatment credits for microbial toolbox options.

2. Stage 2 Disinfectants and Disinfection Byproduct Rule Proposal

(a) General Information: The 1996 Amendments to the Safe Drinking Water Act require EPA to promulgate a Stage 2 Disinfectants and Disinfection Byproducts Rule (section 1412(b)(2)(C)) by May 2002. The intent of the proposed S2DBPR is to reduce the variability of exposure to disinfection byproducts (DBPs) for people served by different points in the distribution systems of public water supplies. EPA believes that this decreased exposure will result in reduced risk from reproductive and developmental health effects and cancer. EPA is required under the Safe Drinking Water Act to promulgate the rule as the second part of a staged set of regulations addressing DBPs. Consistent with SDWA requirements for risk balancing, EPA will propose and finalize the Long Term 2 Enhanced Surface Water Treatment Rule (LT2ESWTR) at the same time as the Stage 2 DBP Rule in order to ensure parallel protection from microbial and DBP risks. A Federal Stakeholder Advisory Committee reached an Agreement in Principle in September 2000 with recommendations for both proposed rules (65 FR 83015-83024).

(b) Charge—Stage 2 Disinfectants and Disinfection Byproduct Rule Proposal: EPA requested the SAB to comment on (1) whether the locational running annual average (LRAA) standards for total trihalomethanes (TTHMs) and haloacetic acids (HAA5), in conjunction with the initial distribution system evaluation (IDSE) of the proposed Stage 2 DBPR, more effectively achieves public health protection than the current running annual average (RAA) standards, given the existing knowledge of DBP occurrence and the available health effects data, and (2) whether the IDSE is capable of identifying new compliance monitoring points that target high TTHM and HAA5 levels and whether it is the most appropriate tool available to achieve this objective.

Process to be followed by the SAB for this Review: (a) As stated earlier in this notice, this review was planned during the September 25 and 26, 2001 telephone conference call meeting. In this meeting, the standing Drinking Water Committee of the SAB received introductory briefings by EPA representatives on both rules and the Agency charge. The DWC members engaged in discussions with EPA representatives that clarified the charge and certain of the background materials that were earlier delivered by EPA to the Committee.

During the meeting, the Drinking Water Committee, established five subgroups, one to address each of the five agency charge questions. They also decided on the expertise needs for each. The makeup of the Subgroups and the expertise needs are discussed in the meeting minutes cited above in this notice.

(b) Panel Development: The SAB Panel for this review can be viewed at the SAB's Website at www.epa.gov/sab. The Panel consists of the membership of the DWC, augmented by experts in a number of disciplinary areas (e.g., public health management, drinking water treatment and monitoring, statistical techniques, risk assessment, etc.). The original Federal Register notice (July 27, 2001, 66 FR 39163) solicited public comments on the composition and balance of the panel and/or suggestions on persons to be added to the Panel for the second meeting. No formal comments were received as a result of this solicitation. Agency staff and SAB Members/Staff have provided suggestions for persons who can provide the needed expertise. These suggestions were considered in the SAB's decision on the final makeup of the review Panel for the December meeting.

For Further Information—Any member of the public wishing further information concerning this meeting should contact Mr. Thomas O. Miller, Designated Federal Officer, SAB Drinking Water Committee (1400A), 1200 Pennsylvania Ave., NW., Washington, DC, 20460; by email at miller.tom@epa.gov, or by Fax at (202) 501-0582. For a copy of the draft meeting agenda, please contact Ms. Wanda Fields, Management Assistant at (202) 564-4539, FAX at (202) 501-0582, or email at: fields.wanda@epa.gov.

Materials that are the subject of this review are available as follows: (a) Stage 2 DBPs, Ms. Mary Manibusan, US EPA Office of Water (OW) (MS 4607), 1200 Pennsylvania Ave., NW., Washington, DC 20460, Phone: (202) 260-3688 or via email at manibusan.mary@epa.gov; and (b) LT2, Mr. Dan Schmelling, US EPA Office of Water (OW) (MS 4607), 1200 Pennsylvania Ave., NW., Washington, DC 20460, Phone: (202) 260-1439 or via email at schmelling@epa.gov.

Providing Oral or Written Comments at SAB Meetings

It is the policy of the EPA Science Advisory Board to accept written public comments of any length, and to accommodate oral public comments whenever possible. The EPA Science Advisory Board expects that public statements presented at its meetings will not be repetitive of previously submitted oral or written statements.

Oral Comments: In general, each individual or group wishing to make a brief oral presentation to the Panel must contact Mr. Thomas Miller, DFO for the DWC, no later than noon Eastern Time, Monday, December 3, 2001 in order to be included on the agenda. The request should identify the name of the individual who will make the presentation, the organization (if any) the will represent, and any requirements for audio visual equipment (e.g., overhead projector, 35 mm projector, chalkboard, etc.). Presentations at face-to-face meeting will be limited to a total time of five minutes per speaker. For teleconference meetings, opportunities for oral comment will usually be limited to no more than three minutes per speaker and no more than fifteen minutes total for all speakers together. Speakers should provide to the SAB Staff Office, at least one week prior to the meeting date, (a) one signed hard copy of the comments for the file and (b) an electronic version of the comments [acceptable file format: WordPerfect, Word, or Rich Text files (in IBM-PC/Windows 95/98 format)]. In addition, the speaker should bring to the meeting at least 35 copies of their comments and presentation slides for distribution to the reviewers and public at the meeting.

Written Comments: Although the SAB accepts written comments until the date of the meeting (unless otherwise stated), written comments should be received in the SAB Staff Office at least one week prior to the meeting date so that the comments may be made available to the committee for their consideration. Comments should be supplied to Mr. Miller (see contact information above) in the following formats: one hard copy with original signature, and one electronic copy via e-mail (acceptable file format: WordPerfect, Word, or Rich Text files (in IBM-PC/Windows 95/98 format)). Those providing written comments and who attend the meeting are also asked to bring 35 copies of their comments for public distribution.

Meeting Access—Individuals requiring special accommodation at these meetings, including wheelchair access to the conference room, should contact Mr. Miller at least five business days prior to the relevant meeting so that appropriate arrangements can be made.

Dated: October 31, 2001.
John R. Fowle, III,
Acting Staff Director, EPA Science Advisory Board.

[FR Doc. 01-28086 Filed 11-7-01; 8:45 am]

BILLING CODE 6560-50-P